DEPARTMENT OF TRANSPORTATION

Federal Aviation Administration

14 CFR Part 39

[Docket No. 2002-CE-25-AD; Amendment 39-12905; AD 2002-20-08]

RIN 2120-AA64

Airworthiness Directives; British Aerospace Jetstream Model 3201 Airplanes

AGENCY: Federal Aviation Administration, DOT.

ACTION: Final rule.

SUMMARY: This amendment supersedes AD 2000-09-13, which currently requires you to inspect the fuel quantity indication system for damage to the insulation of the wiring within the fuel tanks on British Aerospace Jetstream Model 3201 airplanes and requires you to repair or replace damaged wiring. This AD retains the actions of AD 2000-09-13 and requires you to replace the fuel quantity indication system wiring harness with improved design parts, inspect the fuel boost pump area for damage, and replace any damaged component. This AD is the result of mandatory continuing airworthiness information (MCAI) issued by the airworthiness authority for the United Kingdom. The actions specified by this AD are intended to detect, correct, and prevent damage to the insulation of the wiring within the fuel tanks of the fuel quantity indication system. If not detected, corrected, and prevented, such damaged wiring could result in damage to the fuel boost pump and a malfunction in the cockpit indicators and/or electrical sparking inside the fuel tank with consequent fire or explosion.

DATES: This AD becomes effective on December 18, 2002.

The Director of the Federal Register previously approved the incorporation by reference of British Aerospace Jetstream Alert Service Bulletin 28-A-JA990841, Original Issue: September 8, 1999; and British Aerospace Jetstream Alert Service Bulletin 28-A-JA990841, Original Issue: September 8, 1999, Revision No. 1: November 12, 1999, as of June 23, 2000 (65 FR 30863, May 15, 2000).

The Director of the Federal Register approved the incorporation by reference of British Aerospace Jetstream Service Bulletin 28-JM8226, Original Issue: March 11, 2002, as of December 18, 2002.

ADDRESSES: You may get the service information referenced in this AD from British Aerospace Regional Aircraft, Prestwick International Airport, Ayrshire, KA9 2RW, Scotland; telephone: (01292) 672345; facsimile: (01292) 671625. You may view this information at the Federal Aviation Administration (FAA), Central Region, Office of the Regional Counsel, Attention: Rules Docket No. 2002-CE-25-AD, 901 Locust, Room 506, Kansas City, Missouri 64106; or at the Office of the Federal Register, 800 North Capitol Street, NW., suite 700, Washington, DC.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What Events Have Caused This AD?

Reports of damage to the insulation of the wiring within the wing fuel tanks of the fuel quantity indication system on two British Aerospace Jetstream Model 3201 airplanes caused us to issue AD 2000-09-13, Amendment 39-11722 (65 FR 30863, May 15, 2000). This AD requires you to accomplish the following on all British Aerospace Jetstream Model 3201 airplanes:

—Inspect the fuel quantity indication system for damage to the insulation of the wiring within the fuel tanks; and

—Repair or replace damaged wiring.

These actions must be accomplished in accordance with British Aerospace Jetstream Alert Service Bulletin 28-A-JA990841, Original Issue: September 8, 1999; or British Aerospace Jetstream Alert Service Bulletin 28-A-JA990841, Original Issue: September 8, 1999; Revision No. 1: November 12, 1999.

The Civil Aviation Authority (CAA), which is the airworthiness authority for the United Kingdom, recently notified FAA that an unsafe condition may continue to exist in the fuel quantity insulation wiring area on all British Aerospace Jetstream Model 3201 airplanes. The CAA reports that the existing fuel quantity indication system wiring harness is composed of “equipment grade” wiring instead of “aircraft grade” wiring. This “equipment grade” wiring has a thinner insulation wall and will eventually deteriorate regardless of whether repaired as required by AD 2000-09-13.

In addition, the current wiring configuration can rub on the components in the fuel boost pump area and cause consequent damage.

What Is the Potential Impact if FAA Took No Action?

If not detected, corrected, and prevented, damage to the insulation of the wiring within the fuel tanks of the fuel quantity indication system could result in the following:

—Damage to the fuel boost pump;

—A malfunction in the cockpit indicators and/or electrical sparking inside the fuel tank; and

—A consequent fire or explosion.

Has FAA Taken Any Action to This Point?

We issued a proposal to amend part 39 of the Federal Aviation Regulations (14 CFR part 39) to include an AD that would apply to all British Aerospace Jetstream Model 3201 airplanes. This proposal was published in the Federal Register as a notice of proposed rulemaking (NPRM) on August 9, 2002 (67 FR 51797). The NPRM proposed to supersede Airworthiness Directive (AD) 2000-09-13, which currently requires you to inspect the fuel quantity indication system for damage to the insulation of the wiring within the fuel tanks on British Aerospace Jetstream Model 3201 airplanes and requires you to repair or replace damaged wiring. This proposed AD would retain the actions of AD 2000-09-13 and require you to replace the fuel quantity indication system wiring harness with improved design parts, inspect the fuel boost pump area for damage, and replace any damaged component.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

Cost Impact

How Many Airplanes Does This AD Impact?

We estimate that this AD affects 200 airplanes in the U.S. registry.

What Is the Cost Impact of This AD on Owners/Operators of the Affected Airplanes?

We estimate the following costs to accomplish the inspection and replacement:

Labor cost | Parts cost | Total cost per airplane | Total cost on U.S. operators
130 workhours × $60 = $7,800 | $1,200 per airplane | $9,000 | $9,000 × 200 = $1,800,000

The FAA has no method of determining the number of repairs each owner/operator would incur based on the results of the proposed inspections. We have no way of determining the number of airplanes that may need such repair. The extent of damage would vary on each airplane.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2000-09-13, Amendment 39-11722 (65 FR 30863, May 15, 2000) and adding a new AD to read as follows:

2002-20-08 British Aerospace: Amendment 39-12905; Docket No. 2002-CE-25-AD; Supersedes AD 2000-9-13, Amendment 39-11722.

(a) What airplanes are affected by this AD? This AD affects Jetstream Model 3201 airplanes, all serial numbers, that are certificated in any category.

(b) Who must comply with this AD? Anyone who wishes to operate any of the airplanes identified in paragraph (a) of this AD must comply with this AD.

(c) What problem does this AD address? The actions specified by this AD are intended to detect, correct, and prevent damage to the insulation of the wiring within the fuel tanks of the fuel quantity indication system. If not detected, corrected, and prevented, such damaged wiring could result in damage to the fuel boost pump and a malfunction in the cockpit indicators and/or electrical sparking inside the fuel tank with consequent fire or explosion.

(d) What actions must I accomplish to address this problem? To address this problem, you must accomplish the following:

Actions | Compliance | Procedures
(1) Inspect the fuel quantity indication system for damage to the insulation of the wiring within the fuel tanks. Damage is defined as corrosion (indicated by a dark stain), cuts, or nicks | At whichever of the following occurs first, unless already accomplished: within the next 200 hours time-in-service (TIS) after June 23, 2002 (the effective date AD 200-09-13); or on or before August 21, 2000 (60 days after the effective date of AD 2000-09-13) | In accordance with either British Aerospace Jetstream Alert Service Bulletin 28-A-JA990841, Original Issue: September 8, 1999; or British Aerospace Jetstream Alert Service Bulletin 28-A-JA990841, Original Issue: September 8, 1999, Revision No. 1: November 12, 1999.
(2) Replace or repair any damaged wiring | Prior to further flight after the inspection required by paragraph (d)(1) of this AD | In accordance with either British Aerospace Jetstream Alert Service Bulletin 28-A-JA990841, Original Issue: September 8, 1999; or British Aerospace Jetstream Alert Service Bulletin 28-A-JA990841, Original Issue: September 8, 1999, Revision No. 1: November 12, 1999.
(3) Inspect the fuel boost pump area for damage and replace any damaged component | Inspect within the next 12 months after December 18, 2002 (the effective date of this AD), unless already accomplished. Replace any damaged component prior to further flight after the inspection | In accordance with British Aerospace Jetstream Service Bulletin 28-JM8226, Original Issue: March 11, 2002.
(4) Replace the fuel quantity indication system wiring harness with improved design parts and reroute the wiring harness installation. This replacement incorporates Jetstream Modification JM8226 | Within the next 12 months after December 18, 2002 (the effective date of this AD), unless already accomplished | In accordance with British Aerospace Jetstream Service Bulletin 28-JM8226, Original Issue: March 11, 2002.
(5) Only install a fuel quantity indication system wiring harness that incorporates Jetstream Modification JM8226 (or FAA-approved equivalent parts) | As of December 18, 2002 (the effective date of this AD) | Not applicable.

(e) Can I comply with this AD in any other way? You may use an alternative method of compliance or adjust the compliance time if:

(1) Your alternative method of compliance provides an equivalent level of safety; and

(2) The Standards Office Manager, Small Airplane Directorate, approves your alternative. Submit your request through an FAA Principal Maintenance Inspector, who may add comments and then send it to the Standards Office Manager.

Note 1: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Doug Rudolph, Aerospace Engineer, FAA, Small Airplane Directorate, 901 Locust, Room 301, Kansas City, Missouri 64106; telephone: (816) 329-4059; facsimile: (816) 329-4090.

(g) What if I need to fly the airplane to another location to comply with this AD? The FAA can issue a special flight permit under §§ 21.197 and 21.199 of the Federal Aviation Regulations (14 CFR 21.197 and 21.199) to operate your airplane to a location where you can accomplish the requirements of this AD.

(h) Are any service bulletins incorporated into this AD by reference? (1) Actions required by this AD must be done in accordance with British Aerospace Jetstream Alert Service Bulletin 28-A-JA990841, Original Issue: September 8, 1999; British Aerospace Jetstream Alert Service Bulletin 28-A-JA990841, Original Issue: September 8, 1999, Revision No. 1: November 12, 1999; and British Aerospace Jetstream Service Bulletin 28-JM8226, Original Issue: March 11, 2002.

(i) The Director of the Federal Register approved the incorporation by reference of British Aerospace Jetstream Service Bulletin 28-JM8226, Original Issue: March 11, 2002, under 5 U.S.C. 552(a) and 1 CFR part 51.

(ii) The Director of the Federal Register previously approved the incorporation by reference of British Aerospace Jetstream Alert Service Bulletin 28-A-JA990841, Original Issue: September 8, 1999; and British Aerospace Jetstream Alert Service Bulletin 28-A-JA990841, Original Issue: September 8, 1999, Revision No. 1: November 12, 1999, as of June 23, 2000 (66 FR 30863, May 15, 2000).

(2) You may get copies from British Aerospace Regional Aircraft, Prestwick International Airport, Ayrshire, KA9 2RW, Scotland; telephone: (01292) 672345; facsimile: (01292) 671625. You may view copies at the FAA, Central Region, Office of the Regional Counsel, 901 Locust, Room 506, Kansas City, Missouri, or at the Office of the Federal Register, 800 North Capitol Street, NW, suite 700, Washington, DC.

(i) When does this amendment become effective? This amendment becomes effective on December 18, 2002.

Note 2: The subject of this AD is addressed in CAA AD 001-03-2002, as specified in British Aerospace Jetstream Service Bulletin 28-JM8226, Original Issue: March 11, 2002.

Issued in Kansas City, Missouri, on October 8, 2002.
Michael Gallagher,
Manager, Small Airplane Directorate, Aircraft Certification Service.

[FR Doc. 02-26370 Filed 10-21-02; 8:45 am]

BILLING CODE 4910-13-P